FEDERAL COMMUNICATIONS COMMISSION

47 CFR Part 73

[DA 01-419; MM Docket No. 00-237; RM-10006]

Radio Broadcasting Services; Window Rock, AZ

AGENCY: Federal Communications Commission.

ACTION: Final rule.

SUMMARY: This document substitutes Channel 285C2 for Channel 274C3 at Window Rock, Arizona, and modifies the license of Station KWIM accordingly, as requested by Western Indian Ministries, Inc. See 65 FR 71080, November 29, 2000. Coordinates used for Channel 285C2 at Window Rock are those of the presently licensed site of Station KWIM, at 35-39-19 NL and 109-01-59 WL.

DATES: Effective April 2, 2001.

FOR FURTHER INFORMATION CONTACT: Nancy Joyner, Mass Media Bureau, (202) 418-2180.

SUPPLEMENTARY INFORMATION: This is a synopsis of the Commission's Report and Order, MM Docket No. 00-237, adopted February 7, 2001, and released February 16, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Arizona, is amended by removing Channel 274C3 and adding Channel 285C2 at Window Rock.

Federal Communications Commission.
John A. Karousos,
Chief, Allocations Branch, Policy and Rules Division, Mass Media Bureau.

[FR Doc. 01-4918 Filed 2-28-01; 8:45 am]

BILLING CODE 6712-01-P